FEDERAL MARITIME COMMISSION

Notice of Agreement Filed

The Commission hereby gives notice of the filing of the following agreement under the Shipping Act of 1984. Interested parties can review or obtain copy of the agreement at the Washington, DC offices of the Commission, 800 North Capitol Street, NW., Room 940. Interested parties may submit comments on an agreement to the Secretary, Federal Maritime Commission, Washington, DC 20573, within 10 days of the date this notice appears in the Federal Register.

Agreement No.: 201159.

Title: Memorandum of Settlement of Local Conditions in the Port of New York and New Jersey.

Parties: New York Shipping Association, Inc. and the International Longshoremen's Association.

Filing Parties: Andre Mazzola; Gleason & Mathews, P.C.; 26 Broadway, 17 Floor; New York, New York 10004; and William M. Spelman; Lambos &Junge; 29 Broadway, 9th Floor; New York, New York 10006.

Synopsis: The agreement establishes local conditions for the Port of New York-New Jersey under the ILA Master Contract.

Dated: July 20, 2004.
By Order of the Federal Maritime Commission.
Bryant L. VanBrakle,
Secretary.

[FR Doc. 04-16884 Filed 7-23-04; 8:45 am]

BILLING CODE 6730-01-P